DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS), Standards Subcommittee Meeting.

Date and Times: Thursday, May 17, 2018: 9:00 a.m.-4:30 p.m. (EDT).

Place: Bureau of Labor Statistics, Janet Norwood Conference and Training Center, Postal Square Building, 2 Massachusetts Ave NE, Room G440, Washington, DC 20212 (Entrance on First Street across from Union Station).

Status: Open. There will be a public comment period during the final 15 minutes of the subcommittee meeting.

Purpose: Health Insurance Portability and Accountability Act (HIPAA) legislation from 1996, as amended,¹ directed the Secretary of HHS to publish regulations adopting administrative standards, code sets and identifiers to support the exchange of electronic health information between covered entities. The standards are for retail pharmacy and medical transactions.

¹ Along with Section 1104(c) of the Patient Protection and Affordable Care Act (ACA) of 2010.

NCVHS is working on the development of a standards update and adoption roadmap (the predictability roadmap), in collaboration with industry stakeholders and the Standards Development Organizations (SDOs). The purpose of this roadmap is to improve the predictability of the update and adoption process of the standards and operating rules. It is the intent of the collaboration effort to identify the barriers to updating and adopting standards and make constructive, actionable recommendations for all parties, so that covered entities can more effectively conduct their business, operational and technical strategic planning.

NCVHS held a visioning exercise with the Standards Development Organizations (SDOs) in August 2017, and developed a set of draft action steps and recommendations. The next step towards finalizing recommendations for the Secretary, is to convene a group of Chief Information Officers (CIOs) who work with the standards and operating rules as end users, with health care leaders from various fields of health care technology. The CIOs and health care innovators will exchange information based on their experience and expertise. The CIOs will discuss their changing business and technology needs specifically as these pertain to the standards that have been adopted under HIPAA such as claims, eligibility, referrals and authorizations. Some individuals will share their experience using the standards day to day, and to increase efficiencies in their organizations. Other participants will share their experience implementing or seeing innovative technology being used for the exchange of electronic health care information.

During the second part of the forum, the group will engage in an open discussion about the roadmap themes and develop additional action items and recommendations for the Secretary. The roadmap themes and their problem statements are listed below:

1. Standards Development and update process. Frequency of updates to standards and operating rules is not aligned with industry business and technical changes and does not enable covered entities, trading partners, or business associates to take advantage of developments in technology.

2. Governance, or oversight of the standards review process (currently the Designated Standards Maintenance Organization or DSMO process established through regulation). Current coordinating body (i.e., the DSMO) is charged with oversight of standards revision priorities but may be operating with too narrow a charter or lacking the authority and resources to be effective.

3. Federal regulatory process to adopt new versions of standards. The Federal process for adoption of standards and operating rules is lengthy, of unpredictable duration and contains numerous checks and balances that duplicate similar processes within the standards development organizations. The lack of predictability and timeliness jeopardizes the smooth adoption and uptake of standards and operating rules once they are developed and published by the SDO.

4. Data harmonization. The lack of data cohesion due to inconsistencies in data dictionaries and data elements across SDOs jeopardizes interoperability.

5. Inclusion of non-covered entities under HIPAA. Covered entities include providers, health plans and health care clearinghouses. Vendors and other business associates are not covered entities but often play a role in the exchange and/or processing of the adopted standards. The Federal government is limited in its authority over non-covered entities. This impacts the use of standards in a variety of ways, from costs to actual utilization.

The times and topics are subject to change. Please refer to the posted agenda for any updates.

Contact Persons for More Information: Substantive program information may be obtained from Rebecca Hines, MHS, Executive Secretary, NCVHS, National Center for Health Statistics, Centers for Disease Control and Prevention, 3311 Toledo Road, Hyattsville, Maryland 20782, telephone (301) 458-4715. Information pertaining to meeting content may be obtained from Lorraine Doo, MSW, MPH, Centers for Medicare & Medicaid Services, Office of Information Technology, Division of National Standards, 7500 Security Boulevard, Baltimore, Maryland, 21244, telephone (443) 615-1309. Summaries of meetings and a roster of Committee members are available on the NCVHS website: www.ncvhs.hhs.gov, where further information including an agenda and instructions to access the live audio broadcast of the meetings will also be posted.

Should you require reasonable accommodation, please contact the CDC Office of Equal Employment Opportunity on (770) 488-3210 as soon as possible.

Dated: April 10, 2018.
Laina Bush,
Deputy Assistant Secretary for Planning and Evaluation, Office of the Assistant Secretary for Planning and Evaluation.

[FR Doc. 2018-07926 Filed 4-16-18; 8:45 am]

BILLING CODE 4151-05-P